DEPARTMENT OF THE INTERIOR

National Park Service

Notice of Intent to Repatriate Cultural Items: Northwest Museum, Whitman College, Walla Walla, WA

AGENCY: National Park Service, Interior.

ACTION: Notice.

Notice is here given in accordance with the Native American Graves Protection and Repatriation Act (NAGPRA), 25 U.S.C. 3005, of the intent to repatriate cultural items in the possession of the Northwest Museum, Whitman College, Walla Walla, WA, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1901, cultural items were removed from the southwestern corner of First and Birch Streets, Walla Walla, Walla Walla County, WA, during excavation of a house foundation. The cultural items were accessioned to the museum in 1946 (Cat. #WHIT-O-11 and #WHIT-O-12). The 104 unassociated funerary objects are 104 various beads.

Museum records state that the beads were removed from a grave, but there is no record of disposition of the human remains. The land occupied by the city of Walla Walla is within the ceded lands of the Confederated Tribes of the Umatilla Indian Reservation, Oregon. It was used as a wintering ground, habitation area, hunting, fishing and food gathering area by the Weyiiletpuu (Cayuse) and Waluulapam (Walla Walla). The Weyiiletpuu (Cayuse) and Waluulapam (Walla Walla) are members of the Confederated Tribes of the Umatilla Indian Reservation, Oregon.

On November 27, 1948, cultural items were removed from a burial at Canoe Island, Site #10, Umatilla County, OR, Dr. Melvin Jacobs, Curator of the Museum of History and Art at Whitman College, and Thomas R. Garth, Jr., archeologist for the National Park Service Whitman Monument. The human remains were collected, but are not currently in the museum collection. The 11 unassociated funerary objects are 3 net sinkers, 2 scrapers, 1 chert flake, 1 knife, 1 bone awl, 1 bone needle, 1 bone point, and 1 sandstone smoother. (Cat. #WHIT-J-8, 11, 12, 17, 88, 90, 91, 99, 101, 102, and 104)

Canoe Island is currently inundated by Lake Wallula, behind McNary Dam. It was an important fishing site of the Imatalamlama (Umatilla) and Waluulapam, and opposite the fishing camp of Pusim. The islands in the Columbia River were also used for refuge during invasion from hostile enemies. Canoe Island is within the ceded lands of the Confederated Tribes of the Umatilla Indian Reservation, Oregon.

On October 16, 1949, cultural items were removed from Cremation Pit #1 at Rabbit Island, Site #18, 45BN15, Benton County, WA. The human remains from Cremation Pit #1 were repatriated to the Confederated Tribes of the Umatilla Indian Reservation, Oregon in 1992. The cultural items were identified in the collection and are now unassociated funerary objects. The three unassociated funerary objects are one clamshell, one obsidian point, and one small piece of basalt (Cat. #Whit-J-124 to #Whit-J-126).

Rabbit Island was on the Homly Channel of the Columbia River and was an important burial site and habitation area for the Waluulapam. It was also near two important salmon and eel fishing sites known as Tomist-pa and Khus-us-tenim-tala-wit. Today, the island is inundated by Lake Wallula, behind McNary Dam and is within the ceded lands of the Confederated Tribes of the Umatilla Indian Reservation, Oregon.

In 1949, Thomas R. Garth excavated at the PeoPeoMoxMox Village Site, 45WW6, Burial 2, at Waluula, Walla Walla County, WA. The burial is circa A.D. 1845-1855. The human remains were most likely repatriated to the Confederated Tribes of the Umatilla Indian Reservation, Oregon in 1992. The cultural items were identified in the collection and are now unassociated funerary objects. The three unassociated funerary objects are three child-sized copper bracelets (Accn. #J-2 and #1935; Cat. #Whit-J-089).

Waluula was an important permanent village of the Waluulapam. The village is currently inundated by Lake Wallula, behind McNary Dam, which is within the ceded lands of the Confederated Tribes of the Umatilla Indian Reservation, Oregon.

On November 13, 1949, cultural items were removed from Burial #4 at 45BN55 Sheep Island, Site #17, Benton County, WA, by Thomas R. Garth. The one unassociated funerary object is a granite pestle (Accn. #J306, #2086; Cat. #WHIT-J-15).

Sheep Island was an important burial island for the Imatalamlama, and is currently inundated behind McNary Dam and within the ceded lands of the Confederated Tribes of the Umatilla Indian Reservation, Oregon.

On December 3, 1949, Thomas R. Garth and others excavated Sheep Island, Site #17, Burial 8, Benton County, WA. The human remains were repatriated to the Confederated Tribes of the Umatilla Indian Reservation, Oregon in 1992. The cultural items were identified in the collection and are unassociated funerary objects. The two unassociated funerary objects are one pestle and one pestle base (Accn. #2085; Cat. #Whit-J-0016 and 0020).

Thomas R. Garth also excavated Burial #10 at Sheep Island, Site #17, Benton County, WA, and removed cultural items, which were accessioned in the museum under various numbers (Cat. #Whit-J-1, 4, 21, 22, and 27). The five funerary objects are two sandstone smoothers, one salmon packer, one maul broken in two pieces, and one obsidian blade.

Thomas R. Garth found additional cultural items at Sheep Island, Site #17, which were accessioned by the museum (Accn. #2074; Cat. #Whit-J-0006, 0017, and 0127). No documentation was found as to their exact provenience. However, the cultural items were found in the cemetery area and are consistent with the type of funerary objects found during burial excavations at the site. The three unassociated funerary objects are one chopper, one hand adze, and one canoe weight.

On November 15, 1949, cultural items were found at Garth's Site #19 on the East end of Berrian Island, Benton County, WA. It was reported that this area is the same area that H.D. Osborne of the University of Washington and Smithsonian Institute excavated in the summer of 1949, where graves were excavated (Hogben, 1950). On November 25, 1949, Thomas R. Garth revisited the site and found a cremation area with burned artifacts and human bone. Most of the cremation artifacts removed by Garth were at Whitman Mission and were probably repatriated in 1992. Because of the prevalence of human remains on Berrian Island, and Thomas Garth's excavation of the cremation area, the cultural items are reasonably believed to be unassociated funerary objects. The three unassociated funerary objects are three adzes. (#Whit-J-0100, Whit-J-0130, Whit-J-0132)

The determination of cultural affiliation of the unassociated funerary objects described above has been based upon geographic, archeological, historical, ethnological, and linguistic evidence, as well as the oral tradition and kinship traditions of the Confederated Tribes of the Umatilla Indian Reservation, Oregon.

Officials of the Northwest Museum have determined that, pursuant to 25 U.S.C. 3001 (3)(B), the 135 cultural items described above are reasonably believed to have been placed with or near individual human remains at the time of death or later as part of the death rite or ceremony and are believed, by a preponderance of the evidence, to have been removed from a specific burial site of a Native American individual. Officials of the Northwest Museum also have determined that, pursuant to 25 U.S.C. 3001 (2), there is a relationship of shared group identity that can be reasonably traced between the unassociated funerary objects and the Confederated Tribes of the Umatilla Indian Reservation, Oregon.

Representatives of any other Indian tribe that believes itself to be culturally affiliated with the unassociated funerary objects should contact Dr. Nina Lerman, Northwest Museum, Whitman College, 345 Boyer Ave, Walla Walla, WA 99362, telephone (509) 527- 5798, before September 12, 2008. Repatriation of the unassociated funerary objects to the Confederated Tribes of the Umatilla Indian Reservation, Oregon may proceed after that date if no additional claimants come forward.

Northwest Museum is responsible for notifying the Confederated Tribes of the Umatilla Indian Reservation, Oregon that this notice has been published.

Dated: July 14, 2008.
Sherry Hutt,
Manager, National NAGPRA Program.

[FR Doc. E8-18677 Filed 8-12-08; 8:45 am]

BILLING CODE 4312-50-S